DEPARTMENT OF AGRICULTURE

Farm Service Agency

Information Collection; Request for Aerial Photography; Correction

AGENCY: Farm Service Agency, USDA.

ACTION: Notice and request for comments; correction.

SUMMARY: We are making a correction to the notice that requested a revision of a currently approved information collection associated with Request for Aerial Photography. The notice was published in the Federal Register on April 1, 2009 (74 FR 14769-14770). The original notice inadvertently only included the burden for one of the two forms in the information collection request. This corrects that oversight.

FOR FURTHER INFORMATION CONTACT: Mary Ann Ball, Regulatory Review Group, (202) 720-4283, or e-mail: maryann.ball@wdc.usda.gov.

Correction

In the Federal Register notice published on April 1, 2009 (74 FR 14769-14770), on page 14770, first column, under SUPPLEMENTARY INFORMATION which begins on page 14769, correct the burden estimated numbers by replacing the estimates to read:

Estimate of Burden: The public reporting burden for this information collection is estimated to average 36 minutes per respondent.

Estimated Number of Respondents: 6300.

Estimated Number of Responses per Respondent: 1.

Estimated Total Annual Number of Respondents: 6300.

Estimated Total Annual Burden on Respondents: 3770.

Signed in Washington, DC, on August 28, 2009.
Carolyn B. Cooksie,
Acting Administrator, Farm Service Agency.

[FR Doc. E9-21294 Filed 9-2-09; 8:45 am]

BILLING CODE 3410-05-P